DEPARTMENT OF DEFENSE

Office of the Secretary

[Transmittal No. 20-0J]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 20-0J with attached Policy Justification.

Dated: September 22, 2020.
Aaron T. Siegel,
Alternate OSD Federal Register Liaison Officer, Department of Defense.

Transmittal No. 20-0J

Report of Enhancement or Upgrade of Sensitivity of Technology or Capability (Sec. 36(B)(5)(C), AECA)

(i) Prospective Purchaser: Government of Australia

(ii) Sec. 36(b)(1), AECA Transmittal No.: 17-12

Date: June 23, 2017

Military Department: Air Force

(iii) Description: On June 23, 2017, Congress was notified by Congressional certification transmittal number 17-12 of the possible sale under Section 36(b)(l) of the Arms Export Control Act of up to five (5) Gulfstream G-550 aircraft modified to integrate Airborne Intelligence, Surveillance, Reconnaissance, and Electronic Warfare (AISREW) mission systems, Global Positioning System (GPS) capability, secure communications, aircraft defensive systems; spares, including whole life costs of airborne and ground segments; aircraft modification and integration; ground systems for data processing and crew training; ground support equipment; publications and technical data; U.S. Government and contractor engineering, technical and logistics support services; flight test and certification; and other related elements of logistical and program support. The estimated total cost was $1.3 billion. Major Defense Equipment (MDE) constituted $.04 billion of this total.

This transmittal reports the inclusion of the following non-MDE items and services: Spares and repair/return parts; consumables and support equipment; publications and technical documentation; maintenance, training and training equipment; U.S. Government and contractor flight test and certification, aircraft modification and integration, engineering, technical and logistics support services; and other related elements of logistical and program support. These additional items will result in an increase in non-MDE cost of $500 million, causing a revised total cost for non-MDE of $1.76 billion. Major Defense Equipment (MDE) will remain $.04 billion. The total estimated case value will increase by $500 million to $1.8 billion.

(iv) Significance: The proposed articles and services will support Australia's efforts to modernize its Electronic Warfare support capability and increases interoperability between the U.S. Air Force and the Royal Australian Air Force (RAAF).

(v) Justification: This proposed sale will support the foreign policy goals and national security objectives of the United States by improving the security of a major Non-NATO Ally that is a key partner of the United States in ensuring peace and stability around the world.

(vi) Sensitivity of Technology: The Sensitivity of Technology Statement contained in the original notification applies to items reported here.

(vii) Date Report Delivered to Congress: August 26, 2020

[FR Doc. 2020-21632 Filed 9-29-20; 8:45 am]

BILLING CODE 5001-06-P